DEPARTMENT OF TRANSPORTATION

Federal Aviation Administration

14 CFR Part 71

[Docket No. FAA-2019-0687; Airspace Docket No. 19-ASO-17]

RIN 2120-AA66

Amendment of Area Navigation Routes, Florida Metroplex Project; Southeastern United States

AGENCY: Federal Aviation Administration (FAA), DOT.

ACTION: Final rule.

SUMMARY: This action amends 11 high altitude area navigation (RNAV) routes (Q-routes) in support of the Florida Metroplex Project. The amendments provide more efficient, streamlined route options for users, and improve the efficiency of the National Airspace System (NAS).

DATES: Effective date 0901 UTC, May 21, 2020. The Director of the Federal Register approves this incorporation by reference action under Title 1 Code of Federal Regulations part 51, subject to the annual revision of FAA, Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the air traffic service route structure in the southeastern United States to maintain the efficient flow of air traffic.

History

The FAA published a notice of proposed rulemaking for Docket No. FAA-2019-0687 in the Federal Register (84 FR 51068; September 27, 2019) amending 12 existing Q-routes, in the southeastern United States in support of the Florida Metroplex Project. Interested parties were invited to participate in this rulemaking effort by submitting written comments on the proposal. No comments were received.

Differences From the NPRM

The preamble text in the NPRM proposed to amend the descriptions of numerous existing Q routes. However, the regulatory text in the NPRM incorrectly listed seven of the routes as “new” instead of “amended” routes. This rule corrects the regulatory text by replacing “new” with “amended” in the title lines of the descriptions for the affected Q routes. This change is editorial only, and does not alter the alignment of the affected routes.

Additionally, the NPRM proposed to add the OVENP, FL, and SUSYQ, GA waypoints (WP) to the description of Q-87. Subsequently, the FAA determined that the two WPs are not required in the part 71 description of Q-87 because they do not signify a course change for the route. As a result, there is no need to amend the part 71 route description to add the WPs to Q-87. Consequently, Q-87 is removed from this final rule.

Area navigation routes are published in paragraph 2006, of FAA Order 7400.11D dated August 8, 2019, and effective September 15, 2019, which is incorporated by reference in 14 CFR 71.1. The area navigation routes listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending 11 existing Q-routes, in the southeastern United States in support of the Florida Metroplex Project. The amendments add additional waypoints (WP) to various Q-routes. These added WPs give air traffic controllers more predictability, and provide users with more options when filing flight plans. Amendments are made to the descriptions of the following routes: Q-65, Q-77, Q-79, Q-81, Q-85, Q-93, Q-99, Q-109, Q-110, Q-116, and Q-118.

The Q-route amendments are as follows (full route descriptions are listed in “The Amendment” section, below):

Q-65: Q-65 extends between the KPASA, FL, WP, and the Rosewood, OH, VORTAC. The FAA is relocating the southern end point of the route by approximately 50 nautical miles (NM) to the southwest from the KPASA, FL, WP, to the MGNTY, FL, WP (located near the St Petersburg, FL, (PIE) VORTAC. The KPASA WP is removed from the route. The purpose of this amendment is to realign the southern end of Q-65 to a point over Florida's west coast thereby enhancing separation from other air traffic using central Florida routes. The rest of Q-65 (between DOFFY, FL, and Rosewood, OH), remains as currently charted.

Q-77: Q-77 extends between the OCTAL, FL, WP, and the WIGVO, GA, WP. This action updates the latitude/longitude coordinates for the OCTAL, FL, the STYMY, FL, and the WAKKO, FL, WPs. The coordinates for the OCTAL, FL, WP are changed from “Lat. 26°09′01.91″ N, long. 080°06′37.51″ W,” to “Lat. 26°09′01.92″ N, long. 080°12′11.60″ W” This moves OCTAL approximately 5 NM to the west of its current position. The STYMY, FL, WP, coordinates are changed from “Lat. 28°01′09.65″ N, long. 081°08′41.27″ W,” to “Lat. 28°02′12.25″ N, long. 081°09′05.47″ W.” This moves STYMY approximately 1 NM to the north of its current position. The WAKKO, FL, WP coordinates are changed from “Lat. 28°18′00.69″ N, long. 081°24′53.49″ W,” to “Lat. 28°20′31.57″ N, long. 081°18′32.14″ W.” This change moves WAKKO approximately 6 NM to the east of its current position. Updating the coordinates for these WPs provides “tie-ins” for new procedures to Q-77. The FAA is also removing the WASUL, FL, WP (located between the WAKKO, FL, and the MJAMS, FL, WPs) from Q-77. Removal of the WASUL WP, along with the updated positions of the STYMY and WAKKO WPs, allow for straightening of the route segments between the STYMY and MJAMS WPs.

Q-79: Q-79 extends between the MCLAW, FL, WP, and the Atlanta, GA, (ATL) VORTAC. This action adds two new points: the EVANZ, FL, and the IISLY, GA, WPs, between the existing DOFFY, FL, and the YUESS, GA, WPs.

Q-81: Q-81 extends between the TUNSL, FL, WP, and the HONID, GA, WP. The MGNTY, FL, WP is added between the existing FARLU, FL, and the ENDEW, FL, WPs. The SNAPY, FL, the BULZI, FL, and the IPOKE, GA, WPs are be added between the existing NICKI, FL, and the HONID, GA, WPs.

Q-85: Q-85 extends between the LPERD, FL, WP, and the SMPRR, NC, WP. This change adds the BEEGE, GA, WP between the existing LPERD, FL, and the GIPPL, GA, WPs.

Q-93: Q-93 extends between the MCLAW, FL, WP, and the QUIWE, SC, WP. The SUSYQ, GA, WP is added between the existing GIPPL, GA, and the ISUZO, GA, WPs. The GURGE, SC, WP is added between the ISUZO, GA, and the FISHO, SC, WPs.

Q-99: Q-99 extends between the DOFFY, FL, WP, and the POLYY, NC, WP. This action extends the southern end of the route from the current DOFFY, FL, WP approximately 75 NM southeast to the KPASA, FL, WP. Adding the KPASA WP expands the availability of RNAV routing in the area. The rest of Q-99 (between DOFFY, FL, and POLYY, NC), remains as currently charted.

Q-109: Q-109 extends between the DOFFY, FL, WP, and the LAANA, NC, WP. This action relocates the southern end of the route from the current DOFFY, FL, WP, to the KNOST, OG, WP (which is located over the Gulf of Mexico, approximately 78 NM southwest of the DOFFY, WP). The DOFFY, WP is removed from Q-109. This change provides connection to the U.S. National Airspace System for users from Mexico and Central America. In addition, the DEANER, FL, the BRUTS, FL, and the EVANZ, FL, WPs are added to the route between the KNOST, OG, WP, and the CAMJO, FL, WP. After CAMJO, Q-109 extends to the LAANA, NC, WP, as currently charted.

Q-110: Q-110 extends between the BLANS, IL, WP, and the OCTAL, FL, WP. The coordinates for the OCTAL, FL, WP are updated as described above. In addition, an editorial change is made to the order of the WPs listed in the Q-110 description and published in FAA Order 7400.11D. Currently, the route description lists the points from “BLANS, IL, to OCTAL, FL.” This change simply reverses the order of the points listed in the Q-110 description in Order 7400.11D to read “OCTAL, FL, to BLANS, IL.” This change matches airspace database documentation. Except for the change to the OCTAL, FL, WP coordinates, the amendment the order of points does not affect the alignment of Q-110.

Q-116: Q-116 extends between the Vulcan, AL, (VUZ) VORTAC, and the OCTAL, FL, WP. Q-116 is amended by updating the coordinates for the OCTAL, FL, WP, as described above. In addition, the DEANR, FL, WP is added between the existing MICES, FL, and the PATOY, FL, WPs.

Q-118: Q-118 extends between the Marion, IN, (MZZ) VOR/DME, and the PEAKY, FL, WP, FL. The BRIES, FL, WP is removed from the route description as it is no longer required for air traffic control purposes.

Note: In the regulatory text, below, some route descriptions include waypoints located over international waters. In those route descriptions, in place of a two-letter state abbreviation, either “OA,” meaning “Offshore Atlantic,” or “OG,” meaning “Offshore Gulf of Mexico,” is used.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying the following 11 high altitude RNAV routes: Q-65, Q-77, Q-79, Q-81, Q-85, Q-93, Q-99, Q-109, Q-110, Q-116, and Q-118, qualifies for a categorical exclusion under the National Environmental Policy Act and its implementing regulations at 40 CFR part 1500, and in accordance with FAA Order 1050.1F—Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 2006 United States Area Navigation Routes.

* * * * *

Q-65 MGNTY, FL to Rosewood, OH (ROD) [Amended]
MGNTY, FL | WP | (Lat. 28°01′32.99″ N, long. 082°53′19.71″ W)
DOFFY, FL | WP | (Lat. 29°15′22.73″ N, long. 082°31′38.10″ W)
FETAL, FL | WP | (Lat. 30°11′03.69″ N, long. 082°30′24.76″ W)
ENEME, GA | WP | (Lat. 30°42′12.09″ N, long. 082°26′09.31″ W)
JEFOI, GA | WP | (Lat. 31°35′37.02″ N, long. 082°31′18.38″ W)
TRASY, GA | WP | (Lat. 31°55′25.92″ N, long. 082°35′50.51″ W)
CESKI, GA | WP | (Lat. 32°16′21.27″ N, long. 082°40′38.96″ W)
DAREE, GA | WP | (Lat. 34°37′35.72″ N, long. 083°51′35.03″ W)
LORNN, TN | WP | (Lat. 35°21′16.33″ N, long. 084°14′19.35″ W)
SOGEE, TN | WP | (Lat. 36°31′50.64″ N, long. 084°11′35.39″ W)
ENGRA, KY | WP | (Lat. 37°29′02.34″ N, long. 084°15′02.15″ W)
OCASE, KY | WP | (Lat. 38°23′59.05″ N, long. 084°11′05.32″ W)
Rosewood, OH (ROD) | VORTAC | (Lat. 40°17′16.08″ N, long. 084°02′35.15″ W)
Q-77 OCTAL, FL to WIGVO, GA [Amended]
OCTAL, FL | WP | (Lat. 26°09′01.92″ N, long. 080°12′11.60″ W)
MATLK, FL | WP | (Lat. 27°49′36.54″ N, long. 080°57′04.27″ W)
STYMY, FL | WP | (Lat. 28°02′12.25″ N, long. 081°09′05.47″ W)
WAKKO, FL | WP | (Lat. 28°20′31.57″ N, long. 081°18′32.14″ W)
MJAMS, FL | WP | (Lat. 28°55′37.59″ N, long. 081°36′33.30″ W)
ETORE, FL | WP | (Lat. 29°41′49.00″ N, long. 081°40′47.75″ W)
SHRKS, FL | WP | (Lat. 30°37′23.23″ N, long. 081°45′59.13″ W)
TEUFL, GA | WP | (Lat. 31°52′00.46″ N, long. 082°01′04.56″ W)
WIGVO, GA | WP | (Lat. 32°27′24.00″ N, long. 082°02′18.00″ W)
Q-79 MCLAW, FL to Atlanta, GA (ATL) [Amended]
MCLAW, FL | WP | (Lat. 24°33′49.00″ N, long. 081°01′00.00″ W)
VAULT, FL | WP | (Lat. 24°45′54.75″ N, long. 081°00′33.72″ W)
FEMID, FL | WP | (Lat. 26°06′29.59″ N, long. 081°27′23.07″ W)
WULFF, FL | WP | (Lat. 27°04′03.14″ N, long. 081°58′44.99″ W)
MOLIE, FL | WP | (Lat. 28°01′55.53″ N, long. 082°18′25.55″ W)
DOFFY, FL | WP | (Lat. 29°15′22.73″ N, long. 082°31′38.10″ W)
EVANZ, FL | WP | (Lat. 29°54′12.11″ N, long. 082°52′03.81″ W)
IISLY, GA | WP | (Lat. 30°42′37.70″ N, long. 083°17′57.72″ W)
YUESS, GA | WP | (Lat. 31°41′00.00″ N, long. 083°33′31.20″ W)
Atlanta, GA (ATL) | VORTAC | (Lat. 33°37′44.68″ N, long. 084°26′06.23″ W)
Q-81 TUNSL, FL to HONID, GA [Amended]
TUNSL, FL | WP | (Lat. 24°54′02.43″ N, long. 081°31′02.80″ W)
KARTR, FL | FIX | (Lat. 25°29′45.76″ N, long. 081°30′46.24″ W)
FIPES, OG | WP | (Lat. 25°41′30.15″ N, long. 081°37′13.79″ W)
THMPR, FL | WP | (Lat. 26°46′00.21″ N, long. 082°20′23.99″ W)
LEEHI, FL | WP | (Lat. 27°07′21.91″ N, long. 082°34′54.57″ W)
FARLU, FL | WP | (Lat. 27°45′32.56″ N, long. 082°50′43.77″ W)
MGNTY, FL | WP | (Lat. 28°01′32.99″ N, long. 082°53′19.71″ W)
ENDEW, FL | WP | (Lat. 28°18′01.73″ N, long. 082°55′56.70″ W)
BITNY, OG | WP | (Lat. 28°46′11.98″ N, long. 083°07′53.01″ W)
NICKI, FL | WP | (Lat. 29°15′20.19″ N, long. 083°20′31.80″ W)
SNAPY, FL | WP | (Lat. 29°48′51.17″ N, long. 083°42′23.61″ W)
BULZI, FL | WP | (Lat. 30°22′24.93″ N, long. 084°04′34.47″ W)
IPOKE, GA | WP | (Lat. 30°51′48.89″ N, long. 084°11′52.43″ W)
HONID, GA | WP | (Lat. 31°38′50.31″ N, long. 084°23′42.60″ W)
Q-85 LPERD, FL to SMPRR, NC [Amended]
LPERD, FL | WP | (Lat. 30°36′09.18″ N, long. 081°16′52.16″ W)
BEEGE, GA | WP | (Lat. 31°10′59.98″ N, long. 081°16′57.50″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
Q-93 MCLAW, FL to QUIWE, SC [Amended]
MCLAW, FL | WP | (Lat. 24°33′49.00″ N, long. 081°01′00.00″ W)
VAULT, FL | WP | (Lat. 24°45′54.75″ N, long. 081°00′33.72″ W)
LINEY, FL | WP | (Lat. 25°16′44.02″ N, long. 080°53′15.43″ W)
FOBIN, FL | WP | (Lat. 25°47′02.00″ N, long. 080°46′00.89″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
GIPPL, GA | WP | (Lat. 31°22′53.96″ N, long. 081°09′53.70″ W)
SUSYQ, GA | WP | (Lat. 31°40′54.28″ N, long. 081°12′07.99″ W)
ISUZO, GA | WP | (Lat. 31°57′47.85″ N, long. 081°14′14.79″ W)
GURGE, SC | WP | (Lat. 32°29′02.26″ N, long. 081°12′41.48″ W)
FISHO, SC | WP | (Lat. 33°16′46.25″ N, long. 081°24′43.52″ W)
QUIWE, SC | WP | (Lat. 33°57′05.56″ N, long. 081°30′07.93″ W)
Q99 KPASA, FL to POLYY, NC [Amended]
KPASA, FL | WP | (Lat. 28°10′34.00″ N, long. 081°54′27.00″ W)
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
Q-109 KNOST, OG to LAANA, NC [Amended]
KNOST, OG | WP | (Lat. 28°00′02.55″ N, long. 083°25′23.99″ W)
DEANR, FL | WP | (Lat. 29°15′30.40″ N, long. 083°03′30.24″ W)
BRUTS, FL | WP | (Lat. 29°30′58.00″ N, long. 082°58′57.00″ W)
EVANZ, FL | WP | (Lat. 29°54′12.11″ N, long. 082°52′03.81″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, GA | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
Q-110 OCTAL, FL to BLANS, IL [Amended]
OCTAL, FL | WP | (Lat. 26°09′01.92″ N, long. 080°12′11.60″ W)
JAYMC, FL | WP | (Lat. 26°58′51.00″ N, long. 081°22′08.00″ W)
SHEEK, FL | WP | (Lat. 27°35′15.40″ N, long. 081°46′27.82″ W)
SMELZ, FL | WP | (Lat. 28°04′59.00″ N, long. 082°06′34.00″ W)
AMORY, FL | WP | (Lat. 29°13′17.02″ N, long. 082°55′42.90″ W)
JOKKY, FL | WP | (Lat. 30°11′31.47″ N, long. 083°38′41.86″ W)
DAWWN, GA | WP | (Lat. 31°28′49.96″ N, long. 084°36′46.69″ W)
JYROD, AL | WP | (Lat. 33°10′53.29″ N, long. 085°51′54.85″ W)
BFOLO, AL | WP | (Lat. 34°03′33.98″ N, long. 086°31′30.49″ W)
SKIDO, AL | WP | (Lat. 34°31′49.10″ N, long. 086°53′11.16″ W)
BETIE, TN | WP | (Lat. 36°07′29.88″ N, long. 087°54′01.48″ W)
BLANS, IL | WP | (Lat. 37°28′09.27″ N, long. 088°44′00.68″ W)
Q-116 Vulcan, AL (VUZ) to OCTAL, FL [Amended]
Vulcan, AL (VUZ) | VORTAC | (Lat. 33°40′12.48″ N, long. 086°53′59.41″ W)
DEEDA, GA | WP | (Lat. 31°34′13.55″ N, long. 085°00′31.10″ W)
JAWJA, FL | WP | (Lat. 30°10′25.55″ N, long. 083°48′58.94″ W)
MICES, FL | WP | (Lat. 29°51′37.65″ N, long. 083°33′18.30″ W)
DEANR, FL | WP | (Lat. 29°15′30.40″ N, long. 083°03′30.24″ W)
PATOY, FL | WP | (Lat. 29°03′52.49″ N, long. 082°54′00.09″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.92″ N, long. 080°12′11.60″ W)
Q-118 Marion, IN (MZZ) to PEAKY, FL [Amended]
Marion, IN (MZZ) | VOR/DME | (Lat. 40°29′35.99″ N, long. 085°40′45.30″ W)
HEVAN, IN | WP | (Lat. 39°21′08.86″ N, long. 085°07′46.70″ W)
ROYYZ, IN | WP | (Lat. 39°56′28.93″ N, long. 084°56′10.19″ W)
VOSTK, KY | WP | (Lat. 38°28′15.86″ N, long. 084°43′03.58″ W)
HELUB, KY | WP | (Lat. 37°42′54.84″ N, long. 084°44′28.31″ W)
JEDER, KY | WP | (Lat. 37°19′30.54″ N, long. 084°45′14.17″ W)
GLAZR, TN | WP | (Lat. 36°25′20.78″ N, long. 084°46′49.29″ W)
KAILL, GA | WP | (Lat. 34°01′47.21″ N, long. 084°31′24.18″ W)
Atlanta, GA (ATL) | VORTAC | (Lat. 33°37′44.68″ N, long. 084°26′06.23″ W)
JOHNN, GA | FIX | (Lat. 31°31′22.94″ N, long. 083°57′26.55″ W)
JAMIZ, FL | WP | (Lat. 30°13′46.91″ N, long. 083°19′27.78″ W)
BRUTS, FL | WP | (Lat. 29°30′58.00″ N, long. 082°58′57.00″ W)
JINOS, FL | WP | (Lat. 28°28′46.00″ N, long. 082°08′52.00″ W)
KPASA, FL | WP | (Lat. 28°10′34.00″ N, long. 081°54′27.00″ W)
SHEEK, FL | WP | (Lat. 27°35′15.40″ N, long. 081°46′27.82″ W)
CHRRI, FL | FIX | (Lat. 27°03′00.70″ N, long. 081°39′14.81″ W)
FEMID, FL | WP | (Lat. 26°06′29.59″ N, long. 081°27′23.07″ W)
PEAKY, FL | WP | (Lat. 24°35′23.72″ N, long. 081°08′53.91″ W)

* * * * *

Issued in Washington, DC, on March 16, 2020.
Scott M. Rosenbloom,
Acting Manager, Rules and Regulations Group.

[FR Doc. 2020-05987 Filed 3-23-20; 8:45 am]

BILLING CODE 4910-13-P